DEPARTMENT OF LABOR

Employment and Training Administration

Benefits, Timeliness and Quality Data Collection System; Comment Request

ACTION: Notice; request for comments.

SUMMARY: The Department of Labor, as part of its continuing effort to reduce paperwork and respondent burden conducts a preclearance consultation program to provide the general public and Federal agencies with an opportunity to comment on proposed and/or continuing collections of information in accordance with a provision of the Paperwork Reduction Act of 1995 at 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension of the Benefits, Timeliness and Quality (BTQ) data collection system.

A copy of the proposed information collection request can be obtained by contacting the office listed below in the addressee section of this notice.

DATES: Written comments must be submitted to the office listed in the addressee section below on or before July 24, 2001.

ADDRESSES: Delores A. Mackall, U.S. Department of Labor, 200 Constitution Avenue, NW., Room S-4231, Washington, DC 20210, 202-693-3183 (this is not a toll-free number).

SUPPLEMENTARY INFORMATION:

I. Background

The Secretary of Labor under the Social Security Act, Title III, Section 302 (42 U.S.C. 502), funds the necessary cost of proper and efficient administration of each State Unemployment Insurance (UI) law. The BTQ program collects information and analyses data to do this. The BTQ measures, which have been implemented, look at timeliness and quality of States' performance, various administrative actions and administrative decisions concerning UI benefit operations.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Continued collection of data under the BTQ system will provide for a comprehensive evaluation of the overall UI program. The BTQ program has been, and will continue to be, one of the primary means used by UI Regional and National Office staff to assess performance levels of individual States and, as a basis for oversight, to discharge the Secretary of Labor's responsibility for determining proper and efficient administration. The SESAs also use the BTQ measures for their internal program assessment.

Type of Review: Extension.

Agency: Employment and Training Administration.

Title: Benefits, Timeliness and Quality Review.

OMB Number: 1205-0359.

Affected Public: State Government.

Total Respondents: 53.

Frequency: Monthly and Quarterly.

Total Responses: 54,908.

Average Time per Response: 0.7 hours.

Estimated Total Burden Hours: 38,486 hours.

Total Burden Cost (operating/maintaining): 0.

Dated: May 17, 2001.
Grace A. Kilbane,
Administrator, Office of Workforce Security.

[FR Doc. 01-13221 Filed 5-24-01; 8:45 am]

BILLING CODE 4510-30-P